DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: Public Telecommunications Facilities Program (PTFP) Application Information.

OMB Control Number: 0660-0003.

Type of Review: Extension of currently approved collection.

Burden Hours: 23,830.

Number of Respondents: 300.

Average Hours per Response: 75 hours for online applications; and 84 hours for printed applications. In every grant cycle, applicants under serious consideration for funding are required to submit revised information, 4 hours for information completed online; and 7 hours for printed material.

Needs and Uses: The PTFP is a competitive grant-making program that operates an annual application review process. The grant proposals describe unique projects intended to provide broadcasting or telecommunications services to the general public. The collected information is used to determine which projects are funded.

Affected Public: Not-for-profit institutions; state, local, or tribal government.

Frequency: Annually.

Respondent's Obligation: Required to obtain or retain benefits.

OMB Desk Officer: Nicholas Fraser, (202) 395-5887.

Copies of the above information collection proposal can be obtained by calling or writing Diana Hynek, Departmental Paperwork Clearance Officer, (202) 482-0266, Department of Commerce, Room 7845, 1401 Constitution Avenue, NW., Washington, DC 20230 (or via the Internet at dHynek@doc.gov).

Written comments and recommendations for the proposed information collection should be sent within 30 days of publication of this notice to Nicholas Fraser, OMB Desk Officer, FAX number (202) 395-5806 or via the Internet at Nicholas_A._Fraser@omb.eop.gov.

Dated: December 8, 2009.
Gwellnar Banks,
Management Analyst, Office of the Chief Information Officer.

[FR Doc. E9-29595 Filed 12-11-09; 8:45 am]

BILLING CODE 3510-60-P